NATIONAL SCIENCE FOUNDATION

Proposal Review Panel for Ocean Sciences; Notice of Meeting

In accordance with the Federal Advisory Committee Act (Pub. L. 92-463, as amended), the National Science Foundation (NSF) announces the following meeting:

Name and Committee Code: Proposal Review Panel for Ocean Sciences (#10752)—C-DEBI, University of Southern California (Site Visit).

Date And Time:

January 29, 2018; 8:00 a.m.-9:00 p.m.

January 30, 2018; 8:00 a.m.-4:00 p.m.

Place: C-DEBI, University of Southern California, Los Angeles, CA 90089.

Type of Meeting: Part-open.

Contact Person: Michael Sieracki, Division of Ocean Sciences, National Science Foundation, 2415 Eisenhower Avenue, Alexandria, VA 22314. Telephone (703) 292-7585.

Purpose of Meeting: Site visit to review the Center for Dark Biosphere Investigations (C-DEBI) Science and Technology Center.

Agenda: Review the C-DEBI Research Accomplishments and Organizational Structure & Partner Involvement to achieve center goals; planning and decision-making; past accomplishments and future plans.

January 29, 2018; 8:00 a.m.-9:00 p.m.

8:00 a.m.-9:00 a.m. Center Overview (Jan Amend) [Victory Room]

9:00 a.m.-9:20 a.m. Theme 1 Research (Beth Orcutt)

9:20 a.m.-9:40 a.m. Theme 2 Research (Victoria Orphan)

9:40 a.m.-10:00 a.m. Theme 3 Research (Steve Finkel)

10:00 a.m.-10:30 a.m. Review Team Executive Session [Room 201]

10:00 a.m.-10:30 a.m. Coffee Break [Champions Room]

10:30 a.m.-10:50 a.m. Data Management and Integration (John Heidelberg) [Victory Room]

10:50 a.m.-11:10 a.m. DMI Application (Ben Tully)

11:10 a.m.-11:30 a.m. Technology (Geoff Wheat)

11:30 a.m.-12:00 p.m. Review Team Executive Session [Room 201]

12:00-1:30 p.m. Lunch—Review Team Discussion with Students/Postdocs [Champions Room]

1:30 p.m.-2:10 p.m. Education, Outreach, and Diversity (Stephanie Schroeder, Gwen Noda) [Victory Room]

2:10 p.m.-2:30 p.m. C4-REU (Roman Barco)

2:30 p.m.-2:45 p.m. Plans for Phase 3 (Julie Huber)

2:45 p.m.-3:15 p.m. Summary and Q&A (Andy Fisher et al.)

3:15 p.m.-3:45 p.m. Review Team Executive Session [Room 201]

3:45 p.m.-4:00 p.m. Break

4:00 p.m.-5:30 p.m. Poster Session [Champions Room]

5:30 p.m.-6:00 p.m. Interactive Discussion with Review Team [Victory Room]

6:00 p.m.-6:30 p.m. Review Team Executive Session [Room 201]

6:30 p.m.-6:45 p.m. Feedback Provided to PIs

7:00 p.m.-9:00 p.m. Review Team Working Dinner [McKays Trophy Room, Radisson]

January 30, 2018; 8:00 a.m.—4:00 p.m. (Closed Sessions)

8:00 a.m.-9:00 a.m. Review Team Meets with Institution Administrators and Investigators Only

9:00 a.m.-10:00 a.m. C-DEBI Response to Feedback

10:00 a.m.-4:00 p.m. Review Team Prepares Report (Working Lunch)

4:00 p.m. Departure

Reason For Closing: During closed sessions the review will include information of a proprietary or confidential nature, including technical and financial information. These matters are exempt under 5 U.S.C. 552b(c), (4) and (6) of the Government in the Sunshine Act.

Dated: January 2, 2018.
Crystal Robinson,
Committee Management Officer.

[FR Doc. 2018-00088 Filed 1-5-18; 8:45 am]

BILLING CODE 7555-01-P